DEPARTMENT OF DEFENSE

Department of the Army

Privacy Act of 1974; System of Records

AGENCY: Department of the Army, DoD.

ACTION: Notice to delete and amend Systems of Records.

SUMMARY: The Department of the Army is deleting two systems of records notices from its inventory, and amending four systems of records notices in its existing inventory of records systems subject to the Privacy Act of 1974, (5 U.S.C. 552a), as amended.

The two Army systems of records known as A0352-3 CFSC, ‘Dependent Children School Program Files’ (February 22, 1993, 58 FR 10002) and A0690-200 DAPE, ‘School Employee File’ (February 22, 1993, 58 FR 10002) are now under the cognizance of the Department of Defense Education Activity (DoDEA), Office of the Secretary of Defense and are therefore being transferred. Their new system identifiers are DODDS 26, ‘DoD Domestic and Elementary School Program Files’ and DODDS 27, ‘DoD Domestic and Elementary School Employee File’.

The Army is also amending several addresses in its Address Directory under the Major Commands and Unified Commands headings. The amendment replaces ‘Commander in Chief’ to ‘Commander’.

DATES: This proposed action will be effective without further notice on June 9, 2003 unless comments are received which result in a contrary determination.

ADDRESSES: Department of the Army, Freedom of Information/Privacy Act Office, U.S. Army Records Management and Declassification Agency, ATTN: TAPC-PDD-FP, 7798 Cissna Road, Suite 205, Springfield, VA 22153-3166.

FOR FURTHER INFORMATION CONTACT: Ms. Janice Thornton at (703) 806-7137/DSN 656-7137.

SUPPLEMENTARY INFORMATION: The Department of the Army systems of records notices subject to the Privacy Act of 1974, (5 U.S.C. 552a), as amended, have been published in the Federal Register and are available from the address above.

The specific changes to the records system being amended are set forth below followed by the notice, as amended, published in its entirety. The proposed amendments are not within the purview of subsection (r) of the Privacy Act of 1974, (5 U.S.C. 552a), as amended, which requires the submission of a new or altered system report.

Dated: April 30, 2003.
Patricia L. Toppings,
Alternate OSD Federal Register Liaison Officer, Department of Defense.

Deletions

A0352-3 CFSC

System name:

Dependent Children School Program Files (February 22, 1993, 58 FR 10002).

Reason: These records are now under the cognizance of the Department of Defense Education Activity, Office of the Secretary of Defense, and will be maintained under the Privacy Act system of records notice DODDS 26, entitled ‘DoD Domestic and Elementary School Program Files'.

A0690-200 DAPE

System name:

School Employee File (February 22, 1993, 58 FR 10002).

Reason: These records are now under the cognizance of the Department of Defense Education Activity, Office of the Secretary of Defense, and will be maintained under the Privacy Act system of records notice DODDS 27, entitled ‘DoD Domestic and Elementary School Employee File'.

Amendments

A0025-55SAIS

System name:

Request for Information Files (August 3, 1993, 58 FR 41250).

Changes:

System identifier:

Delete entry and replace with ‘A0025-55 TAPC’.

System name:

Delete entry and replace with ‘Freedom of Information Act Program Files’.

* * * * *

Storage:

Replace entry with ‘Paper records in file folders and electronic storage media.’

* * * * *

Safeguards:

Replace entry with ‘All records are maintained in areas accessible only to authorized personnel who have official need in the performance of their assigned duties. Automated records are further protected by assignment of users identification and password to protect the system from unauthorized access. User identification and passwords are changed at random times.’

Retention and disposal:

Replace entry with ‘Records reflecting granted requests are destroyed after 2 years. When requests have been denied, records are retained for 6 years; and if appealed, records are retained 6 years after final denial by the Army or 3 years after final adjudication by the courts, whichever is later.’

* * * * *

Exemptions claimed for the system:

Delete entry and replace with ‘During the course of a FOIA action, exempt materials from ‘other’ systems of records may in turn become part of the case records in this system. To the extent that copies of exempt records from those ‘other’ systems of records are entered into this FOIA case record, the Department of the Army hereby claims the same exemptions for the records from those ‘other’ systems that are entered into this system, as claimed for the original primary systems of records which they are a part.

An exemption rule for this system has been promulgated in accordance with requirements of 5 U.S.C. 553(b)(1), (2), and (3), (c) and (e) and published in 32 CFR part 505. For additional information contact the system manager.’

* * * * *

A0025-55 TAPC

System name:

Freedom of Information Act Program Files.

System location:

Headquarters, Department of the Army, staff and field operating agencies, major commands, installations and activities receiving requests to access records pursuant to the Freedom of Information Act or to declassify documents pursuant to E.O. 12958, National Classified Security Information, as amended. Official mailing addresses are published as an appendix to the Army’s compilation of record system notices.

Categories of individuals covered by the system:

Any individual who requests an Army record under the Freedom of Information Act, or requests mandatory review of a classified document pursuant to E.O. 12958, National Classified Security Information, as amended.

Categories of records in the system:

Individual's request, related papers, correspondence between office of receipt and records custodians, Army staff offices and other government agencies; retained copies of classified or other exempt materials; and other selective documents.

Authority for maintenance of the system:

5 U.S.C. 552, Freedom of Information Act, as amended by Pub. L. 93-502; 10 U.S.C. 3013, Secretary of the Army; Army Regulation 25-55, The Department of the Army Freedom of Information Act Program; and E.O. 12958, National Classified Security Information, as amended.

Purpose(s):

To control administrative processing of requests for information either pursuant to the Freedom of Information Act or to E.O. 12958, National Classified Security Information, as amended, including appeals from denials.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the Army's compilation of systems of records notices also apply to this system.

Policies and practices for storing, retrieving, accessing, retaining, and disposing of records in the system:

Storage:

Paper records in file folders and electronic storage media.

Retrievability:

By requester's surname.

Safeguards:

All records are maintained in areas accessible only to authorized personnel who have official need in the performance of their assigned duties. Automated records are further protected by assignment of users identification and password to protect the system from unauthorized access. User identification and passwords are changed at random times.

Retention and disposal:

Records reflecting granted requests are destroyed after 2 years. When requests have been denied, records are retained for 6 years; and if appealed, records are retained 6 years after final denial by the Army or 3 years after final adjudication by the courts, whichever is later.

System manager(s) and address:

Director, U.S. Army Records Management and Declassification Agency, Freedom of Information/Privacy Acts Office, 7798 Cissna Road, Springfield, VA 22153-3166.

Notification procedure:

Individuals seeking to determine if information about themselves is contained in this record system should address written inquiries to the Director, U.S. Army Records Management and Declassification Agency, Freedom of Information/Privacy Acts Office, 7798 Cissna Road, Springfield, VA 22153-3166.

For verification purposes, individual should provide enough information to permit locating the record.

Record access procedures:

Individuals seeking access to records about themselves contained in this record system should address written inquiries to the Director, U.S. Army Records Management and Declassification Agency, Freedom of Information/Privacy Acts Office, 7798 Cissna Road, Springfield, VA 22153-3166.

For verification purposes, individual should provide enough information to permit locating the record.

Contesting record procedures:

The Army's rules for accessing records, and for contesting contents and appealing initial agency determinations are published in Army Regulation 340-21; 32 CFR part 505; or may be obtained from the system manager.

Record source categories:

From the individual, Army organizations, Department of Defense components, and other federal, state, and local government agencies.

Exemptions claimed for the system:

During the course of a FOIA action, exempt materials from ‘other’ systems of records may in turn become part of the case records in this system. To the extent that copies of exempt records from those ‘other’ systems of records are entered into this FOIA case record, the Department of the Army hereby claims the same exemptions for the records from those ‘other’ systems that are entered into this system, as claimed for the original primary systems of records which they are a part.

An exemption rule for this system has been promulgated in accordance with requirements of 5 U.S.C. 553(b)(1), (2), and (3), (c) and (e) and published in 32 CFR part 505. For additional information contact the system manager.

A0220-1 USSOCOM

System name:

Military Personnel Data File, USSOCOM (February 22, 1993, 58 FR 10002).

Changes:

* * * * *

System manager(s) and address:

Delete entry and replace with ‘Commander, U.S. Special Operations Command, MacDill Air Force Base, FL 33608-6001.’

* * * * *

A0220-1 USSOCOM

System name:

Military Personnel Data File, USSOCOM.

System location:

U.S. Special Operations Command, MacDill Air Force Base, FL 33608-6001.

Categories of individuals covered by the system:

All Army, Navy, Marine Corps, and Air Force personnel assigned for duty with U.S. Special Operations Command (USSOCOM).

Categories of records in the system:

File contains individual’s name, Social Security Number, rank, pay grade, date of rank, branch of service, Army officer branch, basic active service date, basic pay entry date, date of birth, organization and division, primary and secondary military specialty, duty MOS/AFSC, marital status, officer evaluation report/enlisted efficiency report date, reserve regular officer status, duty telephone number, home address and telephone number, spouse's name, date arrived at USSOCOM, projected loss date, expiration term of service, foreign service availability code, human personal reliability screening data, language proficiency, enlisted evaluation report weighted average, name of OER/EER rater, duty title, permanent grade, date of rank, rated category, highest professional military and civilian education, source of commission, mandatory retirement date (officers).

Authority for maintenance of the system:

10 U.S.C. 3013, Secretary of the Army and E.O. 9397 (SSN).

Purpose(s):

To maintain a consolidated joint personnel file pertaining to Army, Navy, Marine Corps, and Air Force personnel. Although each service has its own personnel records system, USSOCOM requires basic personnel data for Command Manning Rosters and similar management purposes.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the Army's compilation of systems of records notices also apply to this system.

Policies and practices for storing, retrieving, accessing, retaining, and disposing of records in the system:

Storage:

The system is an on-line disc resident application with back-up maintained on magnetic tape.

Retrievability:

Standard reports and ad hoc retrievals are generated via remote terminals using a data management system. Updates and record browsing may be accomplished in the interactive mode through keying by Social Security Number.

Safeguards:

All operators have passwords, which are required for access to the computer file. All output products bear Privacy Act labels.

Retention and disposal:

Personnel data are deleted upon departure of the individual from USSOCOM.

System manager(s) and address:

Commander, U.S. Special Operations Command, MacDill Air Force Base, FL 33608-6001.

Notification procedure:

Individuals seeking to determine whether information about themselves is contained in this system should address written inquiries to the Commander, U.S. Special Operations Command, ATTN: Director of Personnel (SOJ1-P), MacDill Air Force Base, FL 33608-6001.

Individual should provide the full name, Social Security Number, and military status or other information verifiable from the record itself.

Record access procedures:

Individuals seeking access to record about themselves contained in this system should address written inquiries to Commanding General, U.S. Special Operations Command, ATTN: Director of Personnel (SOJ1-P), MacDill Air Force Base, FL 33608-6001.

Individual should provide the full name, Social Security Number, and military status or other information verifiable from the record itself.

Contesting record procedures:

The Army's rules for accessing records, and for contesting contents and appealing agency determinations are published in Department of the Army Regulation 340-21; 32 CFR part 505; or may be obtained from the system manager.

Record source categories:

From official military personnel records of the individual upon his/her reporting to USSOCOM for duty.

Exemptions claimed for the system:

None.

A0340-21 TAPC

System name:

Privacy Case Files (April 13, 2001, 66 FR 19150).

Changes:

* * * * *

Storage:

Delete entry and replace with ‘Paper records in file folders and on electronic storage media.’

* * * * *

System manager(s) and addresses:

Replace ‘Fort Belvoir, VA 22153-3166’ with ‘Springfield, VA 22153-3166’.

* * * * *

A0340-21 TAPC

System name:

Privacy Case Files.

System location:

These records exist at Headquarters, Department of the Army, staff and field operating agencies, major commands, installations and activities receiving Privacy Act requests. Official mailing addresses are published as an appendix to the Army's compilation of systems of records notices.

Records also exist in offices of Access and Amendment Refusal Authorities when an individual's request to access and/or amend his/her record is denied. Upon appeal of that denial, record is maintained by the Department of the Army Privacy Review Board.

Categories of individuals covered by the system:

Individuals who request information concerning themselves which is in the custody of the Department of the Army or who request access to or amendment of such records in accordance with the Privacy Act of 1974, as amended.

Categories of records in the system:

Documents notifying requesters of the existence of records on them, providing or denying access to or amendment of records, acting on appeals or denials to provide access or amend records, and providing or developing information for use in litigation; Department of the Army Privacy Review Board minutes and actions; copies of the requested and amended or unamended records; statements of disagreement; and other related documents.

Authority for maintenance of the system:

5 U.S.C. 552a, the Privacy Act of 1974, as amended; 10 U.S.C. 3013, Secretary of the Army; and Army Regulation 340-21, The Army Privacy Program.

Purpose(s):

To process and coordinate individual requests for access and amendment of personal records; to process appeals on denials of requests for access or amendment to personal records by the data subject against agency rulings; and to ensure timely response to requesters.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the Army's compilation of systems of records notices also apply to this system.

Policies and practices for storing, retrieving, accessing, retaining, and disposing of records in the system:

Storage:

Paper records in file folders and on electronic storage media.

Retrievability:

By name of requester on whom the records pertain.

Safeguards:

Records are accessed by custodian of the record system and by persons responsible for servicing the record system in performance of their official duties. Records are stored in locked cabinets or rooms.

Retention and disposal:

Approved requests, denials that were not appealed, denials fully overruled by appellate authorities and appeals adjudicated fully in favor of requester are destroyed after 4 years. Appeals denied in full or in part are destroyed after 10 years, provided legal proceedings are completed.

System manager(s) and address:

Director, U.S. Army Records Management and Declassification Agency, ATTN: Freedom of Information/Privacy Act Office, 7798 Cissna Road, Springfield, VA 22153-3166.

Notification procedure:

Individuals seeking to determine whether information about themselves is contained in this system should address written inquiries to the U.S. Army Records Management and Declassification Agency, Freedom of Information/Privacy Act Office, 7798 Cissna Road, Springfield, VA 22153-3166.

For verification purposes, individual should provide full name, date and place of birth, current address and other personal information necessary to locate the record.

Record access procedures:

Individuals seeking access to information about themselves contained in this system should address written inquiries to the office that processed the initial inquiry, access request, or amendment request. Individual may obtain assistance from the U.S. Army Records Management and Declassification Agency, Freedom of Information/Privacy Act Office, 7798 Cissna Road, Springfield, VA 22153-3166.

For verification purposes, individual should provide full name, date and place of birth, current address and other personal information necessary to locate the record.

Contesting record procedures:

The Army's rules for accessing records, and for contesting contents and appealing initial agency determinations are contained in Army Regulation 340-21; 32 CFR part 505; or may be obtained from the system manager.

Record source categories:

From the individual, Army organizations, Department of Defense components, and other Federal, state, and local government agencies.

Exemptions claimed for the system:

During the course of a Privacy Act (PA) action, exempt materials from ‘other’ systems of records may become part of the case records in this system of records. To the extent that copies of exempt records from those ‘other’ systems of records are entered into these PA case records, the Department of the Army hereby claims the same exemptions for the records as they have in the original primary systems of records which they are a part.

An exemption rule for this system has been promulgated in accordance with requirements of 5 U.S.C. 553(b)(1), (2), and (3), (c) and (e) published in 32 CFR part 505. For additional information contact the system manager.

A0600-85 DAPE

System name:

Alcohol and Drug Abuse Rehabilitation Files (April 4, 2003, 16484).

Changes:

* * * * *

System name:

Delete entry and replace with ‘Army Substance Abuse Program’.

* * * * *

A0600-85 DAPE

System name:

Army Substance Abuse Program.

System location:

Primary location: Army Substance Abuse Program (ASAP) rehabilitation/counseling facilities (e.g., Community Counseling Center/ASAP Counseling Facilities) at Army installations and activities. Official mailing addresses are published as an appendix to the Army's compilation of record system notices.

Secondary location: Army Center for Substance Abuse Program, 4501 Ford Avenue, Suite 320, Alexandria, VA 22302-1460.

Categories of individuals covered by the system:

Active Army, Army National Guard of the U.S., Army National Guard, U.S. Army Reserve, Army civilian employees, military and civilian employee family members and military retirees who are screened and/or enrolled in the Army Substance Abuse Program.

Categories of records in the system:

Primary location: Copies of patient intake records, progress reports, psychosocial histories, counselor observations and impressions of patient's behavior and rehabilitation progress, copies of medical consultation and laboratory procedures performed, results of biochemical urinalysis for alcohol/drug abuse, Patient Intake/Screening record—PIR (DA Form 4465-R); Patient Progress Report—PPR (DA Form 4466-R); Resource and Performance Report (DA Form 3711-R); and Specimen Custody Document—Drug Testing (DD Form 2624), and similar or related documents.

Secondary location: Copies of Patient Intake/Screening record—PIR (DA Form 4465-R); Patient Progress Report—PPR (DA Form 4466-R); Resource and Performance Report (DA Form 3711-R); and Specimen Custody Document—Drug Testing (DD Form 2624), and demographic composites thereof.

Authority for maintenance of the system:

10 U.S.C. 3013, Secretary of the Army; 42 U.S.C. 290dd-2; Federal Drug Free Workplace Act of 1988; Army Regulation 600-85, Army Substance Abuse Program; and E.O. 9397 (SSN).

Purpose(s):

To identify alcohol and drug abusers within the Army; to treat, counsel, and rehabilitate individuals who participate in the Army Substance Abuse Program; to judge the magnitude of drug and alcohol abuse in the Army.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The Patient Administration Division at the medical treatment facility with jurisdiction is responsible for the release of medical information to malpractice insurers in the event of malpractice litigation or prospect thereof.

Information is disclosed only to the following persons/agencies:

To health care components of the Department of Veterans Affairs furnishing health care to veterans.

To medical personnel to the extent necessary to meet a bona fide medical emergency.

To qualified personnel conducting scientific research, audits, or program evaluations, provided that a patient may not be identified in such reports, or his or her identity further disclosed by such personnel.

In response to a court order based on the showing of good cause in which the need for disclosure and the public's interest is shown to exceed the potential harm that would be incurred by the patient, the physician-patient relationship, and the Army's treatment program. Except as authorized by a court order, no record may be used to initiate or substantiate any criminal charges against a patient or to conduct any investigation of a patient.

Note: Records of identity, diagnosis, prognosis, or treatment of any client/patient, irrespective of whether or when he/she ceases to be a client/patient, maintained in connection with the performance of any alcohol or drug abuse prevention and treatment function conducted, requested, or directly or indirectly assisted by any department or agency of the United States, shall, except as provided therein, be confidential and be disclosed only for the purposes and under circumstances expressly authorized in 42 U.S.C. 290dd-2. This statute takes precedence over the Privacy Act of 1974 to the extent that disclosure is more limited. However, access to the record by the individual to whom the record pertains is governed by the Privacy Act. The DoD ‘Blanket Routine Uses’ set forth at the beginning of the Army's compilation of systems of records notices do not apply to this system.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

Policies and practices for storing, retrieving, accessing, retaining, and disposing of records in the system:

Storage:

Paper records in locked metal containers; computer database; computer magnetic discs/tapes.

Retrievability:

By patient's surname, Social Security Number or other individually identifying characteristics.

Safeguards:

Records are maintained in storage areas in locked file cabinets where access is restricted to authorized persons having an official need-to-know.

Retention and disposal:

Primary location: Records are destroyed 5 years after termination of the patient's treatment, unless the Army Medical Department Activity/Facility commander authorizes retention for an additional 6 months.

Secondary location: Manual records are retained up to 18 months or until information taken there from and entered into computer records is transferred to the ‘history’ file, whichever is sooner. Disposal of manual records is by burning or shredding. Computer records are retained permanently for historical and/or research purposes.

Personnel Reliability Program (PRP) records are maintained no longer than 6 years after individual is separated from PRP, then destroyed.

System manager(s) and address:

Deputy Chief of Staff for Personnel, Headquarters, Department of the Army, 300 Army Pentagon, Washington, DC 20320-3000.

Notification procedure:

Individuals seeking to determine if information about themselves is contained in this record system should address written inquiries to either the commander of the medical center/medical department activity where treatment was obtained or the Army Center for Substance Abuse Programs, 4501 Ford Avenue, Suite 320, Alexandria, VA 22302-1460. Official mailing addresses are published as an appendix to the Army's compilation of record system notices.

Individual should provide the full name, Social Security Number, date of birth, current address and telephone number, and signature.

Record access procedures:

Individuals seeking access to records about themselves contained in this record system should address written inquiries to either the commander of the medical center/medical department activity where treatment was obtained or the Army Center for Substance Abuse Programs, 4501 Ford Avenue, Suite 320, Alexandria, VA 22302-1460. Official mailing addresses are published as an appendix to the Army's compilation of record system notices.

Individual should provide the full name, Social Security Number, date of birth, current address and telephone number, and signature.

Contesting record procedures:

The Army's rules for accessing records, and for contesting contents and appealing initial agency determinations are contained in Army Regulation 340-21; 32 CFR part 505; or may be obtained from the system manager.

Denial to amend records in this system can be made only by the Deputy Chief of Staff for Personnel in coordination with The Surgeon General.

Record source categories:

From the individual by interviews and history statement; abstracts or copies of pertinent medical records; abstracts from personnel records; results of tests; physicians' notes, observations of client's behavior; related notes, papers, and forms from counselor, clinical director, and/or commander.

Exemptions claimed for the system:

None.

* * * * *

Major Commands

Commander, U.S. Army Europe and Seventh Army, Unit 29351, APO AE 09014-0010.

Commander, U.S. Army Forces Command, 1777 Hardee Avenue, SW., Fort McPherson, GA 30330-1062.

Commander, U.S. Army Corps of Engineers, 20 Massachusetts Avenue NW., Washington, DC 20314-1000.

Commander, U.S. Army Criminal Investigation Command, 6010 6th Street, Fort Belvoir, VA 22060-5506.

Commander, U.S. Army Medical Command, 2050 Worth Road, Fort Sam Houston, TX 78234-6003.

Commander, U.S. Army Intelligence and Security Command, 8825 Beulah Street, Fort Belvoir, VA 22060-5246.

Commander, U.S. Army Materiel Command, 5001 Eisenhower Avenue, Alexandria, VA 22333-0001.

Commander, U.S. Army Military District of Washington, 103 Third Avenue, Fort McNair, DC 20319-5058.

Commander, U.S. Army South, P.O. Box 34000, Fort Buchanan, Puerto Rico 00934-5301.

Commander, U.S. Army Special Operations Command (Airborne), Fort Bragg, NC 28307-5200.

Commander, U.S. Army Space and Missile Defense Command, P.O. Box 15280, 111 South George Mason Drive, Arlington, VA 22215-0280.

Commander, U.S. Army Training and Doctrine Command, 102 McNair, Fort Monroe, VA 23651-1047.

Commander, U.S. Army Pacific, Fort Shafter, HI 96858-5100.

Commander, U.S. Army Operational Test and Evaluation, Command, 4501 Ford Avenue, Alexandria, VA 22302-1458.

Commander, Eighth U.S. Army, APO AP 96205-0010.

Commander, U.S. Military Traffic Management Command, 200 Stovall Street, Alexandria, VA 22332-5000.

Unified Commands

Commander, U.S. European Command, Unit 30400 Box 10000, APO AE 09128-4209.

Commander, U.S. Southern Command, 3511 NW 91st Avenue, Miami, FL 33172-1217.

Commander, U.S. Special Operations Command, 7701 Tampa Point Boulevard, MacDill Air Force Base, FL 33621-5357.

Commander, U.S. Atlantic Command, 1562 Mitscher Avenue, Norfolk, VA 23551-2488.

Commander, U.S. Pacific Command, Honolulu, HI 96861-4031.

Commander, U.S. Space Command, 250 South Peterson Boulevard, Peterson AFB, CO 80914-3190.

Commander, U.S. Transportation Command, 508 Scott Drive, Scott AFB, IL 62225-5357.

Commander, U.S. Strategic Command, 901 Sac Boulevard, Offutt AFB, NE 68113-6000.

[FR Doc. 03-11569 Filed 5-8-03; 8:45 am]

BILLING CODE 5001-08-P